DEPARTMENT OF ENERGY

Office of Energy Efficiency and Renewable Energy

Agency Information Collection Revision

AGENCY: Office of Energy Efficiency and Renewable Energy, Department of Energy.

ACTION: Submission for Office of Management and Budget (OMB) review; comment request.

SUMMARY: The Department of Energy (DOE) has submitted an information collection revision package to OMB for review under the provisions of the Paperwork Reduction Act of 1995. The package requests revision of the information collection listed at the end of this notice. Comments are invited on: (a) Whether the revised information collections are necessary for the proper performance of the functions of the agency, including whether the information has practical utility; (b) the accuracy of the agency's estimate of the burden of the information collections, including the validity of the methodology and assumptions used; (c) ways to enhance the quality, utility, and clarity of the information to be collected; and (d) ways to minimize the burden of the information collections on respondents, including through the use of automated collection techniques or other forms of information technology.

DATES: Comments regarding this collection must be received on or before April 16, 2007. If you anticipate that you will be submitting comments, but find it difficult to do so within the period of time allowed by this notice, please advise the OMB Desk Officer of your intention to make a submission as soon as possible. The Desk Officer may be telephoned at 202-395-4650.

ADDRESSES: Written comments should be sent to: Christy Cooper, Office of Energy Efficiency and Renewable Energy, U.S. Department of Energy, EE-2H, 1000 Independence Avenue, SW., Washington, DC 20585, or by fax at 202-586-9811 or by e-mail at Christy.cooper@ee.doe.gov.

FOR FURTHER INFORMATION CONTACT: Requests for additional information or copies of the information collection instrument and instructions should be directed to Christy Cooper at the address listed above in ADDRESSES.

SUPPLEMENTARY INFORMATION: The information collection package listed in this notice for public comment include the following:

(1) OMB No.: 1910-5124. (2) Package Title: U.S. Department of Energy Hydrogen Program Assessment of Knowledge and Opinions on Hydrogen and Fuel Cell Technologies. (3) Type of Review: Revision of currently approved information collection. (4) Purpose: This information collection provides the Department with the information necessary to measure current knowledge and opinions concerning hydrogen and fuel cell technologies in the United States and to compare this measurement against a baseline established in 2004. (5) Respondents: 3,246. (6) Estimated Number of Burden Hours: 702.

Statutory Authority: Department of Energy Organization Act, Public Law 95-91.

Issued in Washington, DC, on March 7, 2007.
Alexander A. Karsner,
Assistant Secretary, Energy Efficiency and Renewable Energy.

[FR Doc. E7-4755 Filed 3-14-07; 8:45 am]

BILLING CODE 6450-01-P